DEPARTMENT OF JUSTICE

[OMB Number 1121-0094]

Agency Information Collection Activities; Proposed eCollection eComments Requested; Reinstatement, With Change, of a Previously Approved Collection for Which Approval Has Expired: 2019 Census of Jails

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 30 days until May 18, 2020.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: Annual Survey of Jails (ASJ).

3. Agency form number, if any, and the applicable component of the Department of Justice sponsoring the collection: The ASJ contains one form, CJ-5, each year. The applicable component within the Department of Justice is the Bureau of Justice Statistics (BJS), in the Office of Justice Programs.

4. Affected public who will be asked or required to respond, as well as a brief abstract: Approximately 950 jails, representing 2,924 local jails (city, county, regional, and private) will be requested to provide information for the following categories:

(a) At midyear (last weekday in the month of June), the total number of inmates confined in jail facilities and the total number of persons under jail supervision, but not confined;

(b) At midyear, inmate counts by sex, juvenile status, age group, race/Hispanic origin, probation and parole status, conviction status, severity of charge (felony or misdemeanor), and U.S. citizenship status;

(c) At midyear, the numbers of inmates held for federal authorities, state prison authorities, American Indian or Alaska Native tribal governments, and other local jails;

(d) On the weekend prior to midyear, whether the jail had a weekend program that allows offenders to serve their sentences of confinement only on weekends, and the number of program participants;

(e) Rated capacity at midyear;

(f) The date and count for the greatest number of confined inmates during the 30-day period in June;

(g) The average daily population by sex during the 12-month period from July 1 of last year to June 30 of current year;

(h) The number of new admissions into jail, and final discharges from jail, by sex during the 12-month period from July 1 of last year to June 30 of current year;

(i) The number of persons under jail supervision under various programs outside jail;

(j) At midyear, the number of staff members employed by the facility by sex and occupation (i.e., correctional officers or other staff).

In addition to the above items, the 2020 and 2021 ASJ will include a special addendum on the COVID-19 epidemic with the following six questions:

(a) One-day inmate counts every month from January to May 2020 (or July to December 2020);

(b) The number of inmates that received expedited release due to COVID-19 from January 1, 2020, to June 30, 2020 (or from July 1, 2020, to December 31 2020);

(c) The number of inmates tested for COVID-19 and the number that tested positive from January 1, 2020, to June 30, 2020 (or from July 1, 2020, to December 31 2020);

(d) The number of staff tested for COVID-19 and the number that tested positive from January 1, 2020, to June 30, 2020 (or from July 1, 2020, to December 31 2020);

(e) Inmate deaths and staff deaths from COVID-19 from January 1, 2020, to June 30, 2020 (or from July 1, 2020, to December 31 2020);

(f) The number of inmates not admitted to jail due to testing positive for COVID-19 during the intake process from January 1, 2020, to June 30, 2020 (or from July 1, 2020, to December 31 2020).

The ASJ is the only national collection that tracks annual changes in the local jail population in the United States. BJS requests clearance for the 2020-22 ASJ under OMB Control Number 1121-0094. The ASJ was last approved under OMB Control Number 1121-0094 (exp. date 01/31/2019), where it was bundled with the Mortality in Correctional Institutions-Jails (MCI, formerly the Deaths in Custody Reporting Program) and Survey of Jails in Indian Country. In 2017, the ASJ was separated from the MCI-Jails and became a stand-alone collection again.

5. An estimate of the total number of respondents and the amount of time estimated for an average respondent to respond: During data collection in 2020 and 2021, 950 respondents will each take an average of 120 minutes to complete the CJ-5 form. Data quality follow-up is needed for an estimated 70% of the respondents (665) and the validation will run an average of 10 minutes for each respondent. In addition, about 60 jails will be contacted to verify facility operational status and point-of-contact information, which takes 5 minutes each on average. In total, the ASJ will incur a total burden estimate of 2,016 hours, or 127 minutes per respondent, each year in 2020 and 2021. Without the COVID-19 questions, the 2022 ASJ form will take an average of 80 minutes to complete. In total, the 2020 ASJ will incur a burden estimate of 1,383 hours, or 87 minutes per respondent.

If additional information is required, contact: Melody Braswell, Department Clearance Officer, United States Department of Justice, Justice Management Division, Policy and Planning Staff, Two Constitution Square, 145 N Street NE, 3E.405A, Washington, DC 20530.

Dated: April 13, 2020.
Melody Braswell,
Department Clearance Officer for PRA, U.S. Department of Justice.

[FR Doc. 2020-08042 Filed 4-15-20; 8:45 a.m.]

BILLING CODE 4410-18-P